DEPARTMENT OF LABOR

Office of the Secretary

Agency Information Collection Activities; Submission for OMB Review; Comment Request; National Guard Youth ChalleNGe Job ChalleNGe Evaluation; Correction

ACTION: Notice; correction.

SUMMARY: The Department of Labor published a document in the Federal Register of December 28, 2015, inviting public comments on the National Guard Youth ChalleNGe Job ChalleNGe Evaluation Information Collection Request (80 FR 80816). The document contained an incorrect date.

FOR FURTHER INFORMATION CONTACT: Michel Smyth by telephone at 202-693-4129 (this is not a toll-free number) or by email to DOL_PRA_PUBLIC@dol.gov.

Correction

In the Federal Register of December 28, 2015, in FR Doc. 2015-32623, on page 80816, (80 FR 80816) in the third column, correct the DATES caption to read:

DATES: The OMB will consider all written comments that agency receives on or before February 11, 2016.

Dated: January 22, 2016.
Michel Smyth,
Departmental Clearance Officer.

[FR Doc. 2016-01900 Filed 2-2-16; 8:45 am]

BILLING CODE 4510-04-P